DEPARTMENT OF JUSTICE

Notice of Lodging of Consent Decree Under the Comprehensive Environmental Response, Compensation, and Liability Act

Notice is hereby given that on May 29, 2008, a proposed Consent Decree in United States v. City of New Orleans, et al., Civil Action No. 02-3618, Section “E”, was lodged with the United States District Court for the Eastern District of Louisiana.

In this action the United States, on behalf of the United States Environmental Protection Agency (“EPA”), sought to recover from certain parties response costs that it incurred in response to releases and threatened releases of hazardous substances from the Agriculture Street Landfill Superfund Site (the “Site”) located in New Orleans, Louisiana. The United States also sought to recover civil penalties from the City of New Orleans for violations of an access order and information request issued by EPA. The proposed Consent Decree resolves the liability of the City of New Orleans for past response costs and civil penalties, under Sections 104(e) and 107(a) of CERCLA, 42 U.S.C. 9604(e) and 9607(a). Under the terms of the Consent Decree, the City will perform certain in-kind services, provide access, and assist in the placement of institutional controls on the Site.

The Department of Justice will receive for a period of thirty (30) days from the date of this publication comments relating to the Consent Decree. Comments should be addressed to the Assistant Attorney General for the Environment and Natural Resources Division, U.S. Department of Justice, and either e-mailed to pubcomment-ees.enrd@usdoj.gov or mailed to P.O. Box 7611, NW., Washington, DC 20044-7611, and should refer to United States v. City of New Orleans, et al., D.J. Ref. 90-11-3-1638/2.

The Consent Decree may be examined at the Office of the United States Attorney, Eastern District of Louisiana, 500 Poydras Street, Suite 210, New Orleans, Louisiana 70130, and at the offices of EPA, Region 6, 1445 Ross Ave., Dallas, TX 75202-2733. During the public comment period, the Consent Decree may also be examined on the following Department of Justice Web site, http://www.usdoj.gov/enrd/Consent_Decrees.html. A copy of the Consent Decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $12.50 (25 cents per page reproduction cost) payable to the U.S. Treasury or, if by e-mail or fax, forward a check in that amount to the Consent Decree Library at the stated address.

Maureen M. Katz,
Assistant Section Chief, Environmental Enforcement Section, Environment and Natural Resources Division.

[FR Doc. E8-13466 Filed 6-13-08; 8:45 am]

BILLING CODE 4410-15-P